DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 67 FR 62475-77, dated October 7, 2002) is amended to reorganize the Office of the Director, CDC.

Section C-B, Organization and Functionss, is hereby amended as follows:

After the Office of Management and Operations (CAD), insert the following:

Office of Science Policy and Technology Transfer (CAE). (1) Advises the CDC Director and Senior Staff on science matters and represents CDC in these areas to the Department, other agencies, and Congress; (2) maintains the integrity and productivity of CDC's scientists by resolving controversial scientific issues, developing scientific policies and procedures, supporting training and information exchange, and presenting awards for outstanding scientific efforts; (3) assures the protection of human subjects in public health research; (4) integrates behavioral and social sciences research into public health research; (5) provides advice and guidance on the management of intellectual property; interprets policies, rules, and regulations, especially those related to the Federal Technology Transfer Act; (6) promotes and facilitates the timely transfer of technology, knowledge, products, and processes that improve public health through the use of patents, trademarks, Biological Materials Licensing Agreements, and Cooperative Research and Development Agreements; (7) coordinates governmental and non-governmental vaccine activities, including vaccine research, development, and safety and efficacy testing trough the National Vaccine Program Office and the National Vaccine Advisory Committee; (8) advises the Secretary of HHS and the Director of CDC about the most appropriate use of vaccines and immunization practices for effective disease control in the population through the Advisory Committee for Immunization Practices; and (9) manages the CDC and ATSDR Specimen and Data Bank, an archive of biological materials, including blood components, tissue, bacterial isolates, DNA, and other biological and environmental specimens.

Office of Minority Health (CAG). (1) Serves as the principal advisor to the Director, CDC/Administrator ATSDR on all minority health issues affecting the agency; (2) serves as the focal point for CDC minority health programs, projects, and issues including coordination of CDC/ATSDR activities with the PHS, other U.S. Government Agencies, health agencies of other nations, other national and international government and non-government organizations, community-based organizations, and the public at large; (3) provides leadership and coordination in the development and implementation of long-term plans for minority health activities within the Centers, Institute, and Offices of CDC; (4) provides leadership, in collaboration with senior managers, for policy initiatives to improve the health of ethnic populations, setting agency priorities, goals and objectives, defining appropriate interventions, and monitoring progress toward meeting these goals and objectives; (5) advocates for minority health issues, including presentation at scientific or programmatic meetings, publication of important findings, and dissemination of information via electronic or other means; (6) assesses the progress to improve minority health by establishing tracking mechanisms, and assuring the use of minority health measures to set goals and track accomplishments; (7) coordinates health initiatives including CIO and ATSDR support of Executive Branch and Departmental Minority Health Initiatives; (8) coordinates the planning, design and implementation of minority health research and oversees studies related to understanding and improving health disparities; (9) assists the CIOs and their constituents in identifying and improving the collection and analysis of data on race and ethnicity needed to develop policy, formulate research agendas, set program priorities, and monitor progress in achieving health outcomes; (10) assures minority health issues are incorporated in to the CIO and ATDSR research agendas and ongoing systematic reviews of the literature on intervention effectiveness; (11) assists CIOs and ATSDR in developing and implementing an agency-wide system to apply standards for evaluation and quality assurance, and monitor, evaluate, and measure the cost-benefit/effectiveness and prevention effectiveness of programs to reduce health disparities; (12) assists in the review and clearance of manuscripts, medical studies, or technical papers for publication, and recommends changes as needed to ensure the quality of the work and consistency with HHS and CDC minority health policies and goals, (13) assists the CIOs and their constituents to increase the competence and diversity of the public health workforce by supporting minority student internships, fellowships and Institutions of Higher Learning; and (14) identifies and fosters partnerships and collaborative activities with public, non-profit, private organizations and organizations and agencies, and academia to improve their organizational capacity to execute public health policy, programs, and the CDC and ATSDR agenda.

Office of the Executive Secretariat (CAH). (1) Anticipate potential problems and plans for processing future decisions and issue analyses; (2) coordinate the review and clearance of all controlled correspondence and other documents including announcements, position papers, briefing documents, and report to Congress regarding current Departmental and CDC/ATSDR policy considerations to facilitate consistency and adherence to HHS and agency policy across Centers/Institutes/Offices; (3) control the communications flow by communicating the actions taken by the Director on documents and at meetings, including revisions needed and follow-up action; (4) manage the flow of decision documents and correspondence for action by the Director of CDC; (5) assure that the Director has the views of OGC and the Deputy Director before making program or management decisions; (6) represent CDC in relations with the Executive Secretary of the Department, other HHS executive secretariats, and with outside document management organizations; (7) set editorial standards and processing policies for documents acted on by the Director; (8) track incoming documents and makes action and review assignments to appropriate staff; and (9) maintain all official records relating to the decisions and official actions of the Director, CDC and his immediate staff.

Dated: November 27, 2002.
David Fleming,
Acting Director.

[FR Doc. 02-32009 Filed 12-19-02; 8:45 am]

BILLING CODE 4160-18-M